DEPARTMENT OF TRANSPORTATION

Federal Motor Carrier Safety Administration

[Docket No. FMCSA-2018-0328]

Agency Information Collection Activities; Approval of a New Information Collection Request: Beyond Compliance

AGENCY: Federal Motor Carrier Safety Administration (FMCSA), Transportation (DOT).

ACTION: Notice and request for comments.

SUMMARY: In accordance with the Paperwork Reduction Act of 1995, FMCSA announces its plan to submit the Information Collection Request (ICR) described below to the Office of Management and Budget (OMB) for review and approval. The primary purpose of the ICR is to assess the effectiveness of various technologies, programs, and policies on motor carrier safety performance in support of the implementation of the Fixing America's Surface Transportation Act, 2015 (FAST Act) Beyond Compliance requirements.

DATES: Please send your comments by September 17, 2020. OMB must receive your comments by this date in order to act quickly on the ICR.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Nicole Michel, Mathematical Statistician, Office of Analysis, Research, and Technology's Research Division, Department of Transportation, Federal Motor Carrier Safety Administration, 6th Floor, West Building, 1200 New Jersey Avenue SE, Washington, DC 20590-0001. Telephone: 202-366-4354; Email Address: Nicole.michel@dot.gov. Office hours are from 9 a.m. to 5 p.m., Monday through Friday, except Federal Holidays.

SUPPLEMENTARY INFORMATION:

Title: Beyond Compliance.

OMB Control Number: 2126-00XX.

Type of Request: New information collection.

Respondents: Motor carrier operational managers.

Estimated Number of Respondents: 112 participating carriers and 113 non-participating carriers.

Estimated Time per Response: 70 minutes (5 minutes to read email invite, 10 minutes for webinar, 5 minutes to read instructions, 40 minutes to respond to actual survey, 5 minutes for reminder email 1, 5 minutes for reminder email 2).

Expiration Date: N/A. This is a new information collection.

Frequency of Response: Once.

Estimated Total Annual Burden: 150 hours [(225 email invitation respondents × 5 minutes) + (112 webinar respondents × 10 minutes) + (112 survey instruction respondents × 5) + (112 survey respondents × 40 minutes) + (225 email reminder #1 respondents × 5 minutes) + (113 email reminder #2 respondents × 5 minutes)].

Background

FMCSA requests OMB's review and approval of a new ICR to implement the Beyond Compliance Program, required by Section 5222 of the Fixing America's Surface Transportation Act, 2015 (FAST Act) (Pub. L. 114-94, 129 Stat. 1312, Dec. 4, 2015).

The FAST Act requires FMCSA to allow recognition, including credit or an improved Safety Measurement System (SMS) percentile, for motor carriers that: (1) Install advanced safety equipment; (2) use enhanced driver fitness measures; (3) adopt fleet safety management tools, technologies, and programs; or (4) satisfy other standards determined appropriate by the Administrator.

The FAST Act also requires the FMCSA Administrator to carry out the Beyond Compliance provisions through: (1) Developing a process for identifying elements of technology and safety programs as a basis for recognition; (2) seeking input from stakeholders; (3) using a third party for a monitoring program; and (4) providing a report to Congress.

The primary purpose of the ICR is to assess the effectiveness of various technologies, programs, and policies on motor carrier safety performance in support of the implementation of the FAST Act Beyond Compliance requirements.

To accomplish this, the study will complete the following three objectives:

(1) Identify high-performing carriers in terms of safety performance.

(2) Determine the safety technologies, programs, and policies employed by these carriers.

(3) Gauge the relative effectiveness of those safety technologies, programs, and policies based on the expert opinion and performance metrics of the high performing carriers.

The data being collected for this study consists of responses from a select group of motor carriers on the most effective technologies, programs, and policies for achieving safe operations. The study does not attempt to conduct a full survey of the motor carrier population. Instead, it relies on expert opinion from carriers that are objectively determined to exhibit safe operations that exceed industry averages as indicated by driver out-of-service rates, vehicle out-of-service rates, and crash rates. To identify these carriers, the study will utilize existing data from the Motor Carrier Management Information System (MCMIS) database.

FMCSA will collect data through an electronic survey of a panel of industry experts. The experts will be recruited from motor carriers who have safety performance records that are better than national averages. These carriers will be identified by examining Department of Transportation-reportable crash rates, driver out-of-service rates at roadside inspections, and vehicle out-of-service rates at roadside inspections. Only those carriers that perform near the top quartile across all three categories are potential participants.

Participants would first be invited to participate in an online webinar that explains the evaluation design (i.e., analytic hierarchy process, or AHP). AHP is a tool for dealing with complex decision-making that employs a series of structured, pairwise comparisons in which respondents must express a preference for one alternative over another according to various evaluation criteria. Participants may not know how to proceed through the pairwise comparisons. Instead of solely relying on written instructions to explain to participants how to complete the survey, the project team believes it would be useful to conduct an information session via a webinar so an example can be provided and any questions answered. The webinar would be conducted multiple times and participants would be given the option to select the one that best suits their schedules. In addition to the webinar, an online video would be made available to participants that explains the AHP.

Once participants complete the webinar, they will be given a link to complete the survey online using an online survey tool such as Survey Monkey or Qualtrics. In the context of Beyond Compliance, the AHP-based survey would work by presenting experts with alternatives for what an ideal safety program looks like and allowing them to systematically compare the major elements of these programs. The survey results would then be analyzed to determine the safety program elements that were most frequently scored the highest across participants. The resulting information would reveal the elements of safety programs that these motor carriers are using and their achieved results and what these motor carriers believe to be the most effective for achieving safety and should be included in a Beyond Compliance program.

In addition to those carriers invited by FMCSA to participate in the survey, FMCSA will also be reaching out to the National Association of Small Trucking Companies and Owner-Operator Independent Drivers Association to invite them to voluntarily survey members as a supplemental data collection to the structured design. This would enable greater participation by smaller carriers and owner-operators, and would also enable a wider perspective of responses.

The results of the data collection will be analyzed and integrated into the pilot study report. Data collection will be completed within 90 days of the end of the pilot program period and followed by a statistical analysis in 180 days. Both descriptive and analytical methods will be employed during the data analysis. The results of the study will be documented in a technical report that will be delivered to and maintained by FMCSA. This report will be available to the public on the FMCSA website, at www.fmcsa.dot.gov. The contents of the technical report will be utilized in developing the report that FMCSA is required to provide to Congress, pursuant to Section 5222 of the FAST Act.

Public Comments Invited: You are asked to comment on any aspect of this information collection, including: (1) Whether the proposed collection is necessary for the FMCSA to perform its functions; (2) the accuracy of the estimated burden; (3) ways for the FMCSA to enhance the quality, usefulness, and clarity of the collected information; and (4) ways that the burden could be minimized without reducing the quality of the collected information.

Issued under the authority delegated in 49 CFR 1.87.
Kenneth Riddle,
Acting Associate Administrator, Office of Research and Registration.

[FR Doc. 2020-18014 Filed 8-17-20; 8:45 am]

BILLING CODE 4910-EX-P